DEPARTMENT OF AGRICULTURE

Agricultural Marketing Service

[Doc. No. AMS FV-10-0076; FV10-983-2NC]

Notice of Request for Extension and Revision of a Currently Approved Information Collection for Pistachios

AGENCY: Agricultural Marketing Service, USDA.

ACTION: Notice and request for comments.

SUMMARY: In accordance with the Paperwork Reduction Act of 1995 (44 U.S.C. chapter 35), this notice announces the Agricultural Marketing Service's (AMS) intention to request an extension for and revision to the forms currently used to collect information under Federal Marketing Order No. 983, for pistachios grown in California, Arizona, and New Mexico. This notice also announces AMS' intention to merge two form packages into one.

DATES: Comments on this notice must be received by December 6, 2010.

Additional Information: Contact Lillie Zeng, Marketing Specialist, Marketing Order Administration Branch, Fruit and Vegetable Programs, AMS, USDA, 1400 Independence Avenue, SW., Stop 0237, Washington, DC 20250-0237; (202) 690-3870, Fax: (202) 720-8938, or e-mail: Weiya.Zeng@ams.usda.gov. Small businesses may request information on this notice by contacting Antoinette Carter, Marketing Order Administration Branch, Fruit and Vegetable Programs, AMS, USDA, 1400 Independence Avenue, SW., Stop 0237, Washington, DC 20250-0237; telephone (202) 690-3919, Fax: (202) 720-8938, or e-mail: Antoinette.Carter@ams.usda.gov.

Comments: Comments should reference the document number and the date and page number of this issue of the Federal Register, and be mailed to the Docket Clerk, Fruit and Vegetable Programs, AMS, USDA, 1400 Independence Avenue, SW., Room 1406-S, Washington, DC 20250-0237; Fax: (202) 720-8938; or submitted through the Internet at http://www.regulations.gov. Comments should reference OMB No. 0581-0215 and the Marketing Order for Pistachios Grown in California, Arizona and New Mexico, M.O. No. 983, and the date and page number of this issue of the Federal Register. All comments received will be available for public inspection in the Office of the Docket Clerk during regular USDA business hours at 1400 Independence Ave., SW., Washington, DC, Room 1406-S.

SUPPLEMENTARY INFORMATION: Title: Pistachios Grown in California, Arizona and New Mexico, Marketing Order No. 983.

OMB Number: 0581-0215.

Expiration Date of Approval: April 30, 2011.

Type of Request: Extension and revision of a currently approved information collection.

Abstract: Under the Agricultural Marketing Agreement Act of 1937 (AMAA), as amended (7 U.S.C. 601-674), fresh fruits, vegetables and specialty crop industries can enter into marketing order programs which provide an opportunity for producers, in a specified production area, to work together to solve marketing problems and ensure adequate supplies of high quality product and returns to producers. The Secretary of Agriculture is authorized to oversee the order operations and issue regulations recommended by a committee of representatives from each commodity industry.

The pistachio marketing order regulates the handling of pistachios grown in California, Arizona and New Mexico, hereinafter referred to as the order, (7 CFR part 983). The order authorizes grade and size requirements, as well as a requirement for aflatoxin testing on domestic shipments only.

The order authorizes the Administrative Committee for Pistachios (Committee) to locally administer the order, and require handlers and producers to submit certain information in order to effectively implement the requirements of the order, and fulfill the intent of the AMAA, as expressed in order, as well as assist the industry in carrying out marketing decisions. Only authorized employees of the Committee, and authorized representatives of the USDA, including AMS, Fruit and Vegetable Programs' regional and headquarter's staff have access to information provided on the forms.

Requesting public comments on the forms described below is part of the process to obtain approval through the Office of Management and Budget (OMB). Forms needing OMB approval are contained in OMB No. 0581-0215 and include forms for committee nominations and ballots for producers (FV-245 and FV-246) and handlers (FV-245A and FV-244), as well as background statements for those nominated who agree to serve on the Committee (FV-243). In addition, all producers and/or handlers in the regulated area are required to sign a marketing order agreement (FV-242), and referendums on amendments to (FV-240A), and continuation of (FV-240), the order. There are also forms to report on receipts/assessments (ACP-1), minimal testing for aflatoxins (ACP-5), inter-handler transfer (ACP-6), inventory shipments (ACP-7), producer delivery (ACP-8), exemptions for handlers (ACP-4), and failed lot notifications (ACP-2) and dispositions (ACP-3).

AMS intends to merge OMB packets No. 0581-0215, “Pistachios Grown in California,” and No. 0581-0256, “Pistachios Grown in CA (Recommended Decision AZ and NM)”. By doing so, OMB packet No. 0581-0215 forms will also cover the New Mexico and Arizona regions of the marketing order.

Estimate of Burden: Public reporting burden for this collection of information is estimated to average 17 minutes per response.

Respondents: Pistachio producers, handlers and testing laboratories.

Estimated Number of Respondents: 821.

Estimated Number of Responses per Respondent: 893.2.

Estimated Total Annual Burden on Respondents: 206.90 hours.

Comments: Comments are invited on: (1) Whether the proposed collection of the information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

All responses to this notice will be summarized and included in the request for OMB approval. All comments will also become a matter of public record.

Dated: September 30, 2010.
David R. Shipman,
Acting Administrator, Agricultural Marketing Service.

[FR Doc. 2010-25065 Filed 10-5-10; 8:45 am]

BILLING CODE 3410-02-P